COMMODITY FUTURES TRADING COMMISSION

Proposed Amendments to the Maximum Daily Price Fluctuation Limits for the Chicago Board of Trade's Corn, Corn Yield Insurance (Six Contracts), Oats, Rough Rice, Soybeans, Soybean Meal, Soybean Oil, Wheat, Kilo Gold, 100 Ounce Gold, 1000 Ounce Silver, and 5000 Ounce Silver Futures Contracts; Extension of Comment Period

AGENCY: Commodity Futures Trading Commission.

ACTION: Notice of extension of public comment period for the proposed amendments.

SUMMARY: The Chicago Board of Trade (CBT or Exchange) has proposed amendments to the Exchange's corn, corn yield insurance (six contracts), oats, rough rice, soybeans, soybean meal, soybean oil, wheat, kilo gold, 100 ounce gold, 1000 ounce silver, and 5000 ounce silver futures contracts. On June 8, 2000, the Commission published a request for public comment on the proposed amendments for a 15-day comment period ending on June 23, 2000. The Acting Director of the Division of Economic Analysis (Division), acting pursuant to the authority delegated by Commission Regulation 140.96, has determined that extension of the comment period for an additional thirty (30) days is in the public interest, will assist the Commission in considering the views of interested persons, and is consistent with the purposes of the Commodity Exchange Act.

DATES: Comments must be received on or before July 24, 2000.

ADDRESSES: Interested persons should submit their views and comments to Jean A. Webb, Secretary, Commodity Futures Trading Commission, Three Lafayette Centre, 21st Street, NW, Washington, DC 20581. In addition, comments may be sent by facsimile transmission to facsimile number (202) 418-5521, or by electronic mail to secretary@cftc.gov. Reference should be made to the proposed amendments to the maximum daily price fluctuation limits for the CBT's futures contracts.

FOR FURTHER INFORMATION CONTACT: Please contact John Bird of the Division of Economic Analysis, Commodity Futures Trading Commission, Three Lafayette Centre, 21st Street NW, Washington, DC 20581, telephone (202) 418-5274. Facsimile number: (202) 418-5527. Electronic mail: jbird@cftc.gov.

SUPPLEMENTARY INFORMATION: The Acting Director, acting on behalf of the Commission, has determined to extend the public comment period for the subject notice. The Division believes that an extension of the comment period until July 24, 2000 would permit interested parties to fully evaluate the proposal and to submit comments thereon to the Commission.

Issued in Washington, DC, on June 22, 2000.
John R. Mielke,
Acting Director.

[FR Doc. 00-16411 Filed 6-28-00; 8:45 am]

BILLING CODE 6351-01-M